INTERNATIONAL TRADE COMMISSION

[Investigations Nos. 731-TA-986 and 987 (Final)]

Ferrovanadium From China and South Africa

Determinations

On the basis of the record ¹ developed in the subject investigations, the United States International Trade Commission (Commission) determines, pursuant to section 735(b) of the Tariff Act of 1930 (19 U.S.C. 1673(b)) (the Act), that an industry in the United States is materially injured by reason of imports from China and South Africa for ferrovanadium, provided for in subheading 7202.92.00 of the Harmonized Tariff Schedule of the United States, that have been found by the Department of Commerce (Commerce) to be sold in the United States at less than fair value (LTFV).

¹ The record is defined in § 207.2(f) of the Commission's rules of practice and procedure (19 CFR 207.2(f)).

Background

The Commission instituted these investigations effective November 26, 2001, following receipt of a petition filed with the Commission and Commerce by The Ferroalloys Association Vanadium Committee and its following members: Bear Metallurgical Co., Butler, PA; Shieldalloy Metallurgical Corp., Cambridge, OH; Gulf Chemical & Metallurgical Corp., Freeport, TX; U.S. Vanadium Corp., Danbury, CT; and CS Metals of Louisiana, Convent, LA. The final phase of the investigations was scheduled by the Commission following notification of preliminary determinations by Commerce that imports of ferrovanadium from China and South Africa were being sold at LTFV within the meaning of section 733(b) of the Act (19 U.S.C. 1673(b(b)). Notice of the scheduling of the final phase of the Commission's investigations and of a public hearing to be held in connection therewith was given by posting copies of the notice in the Office of the Secretary, U.S. International Trade Commission, Washington, DC, and by publishing the notice in the Federal Register of July 29, 2002 (67 FR 49035). The hearing was held in Washington, DC, on November 22, 2002, and all persons who requested the opportunity were permitted to appear in person or by counsel.

The Commission transmitted its determinations in these investigations to the Secretary of Commerce on January 13, 2003. The views of the Commission are contained in USITC Publication 3570 (January 2003), entitled Ferrovanadium from China and South Africa: Investigations Nos. 731-TA-986 and 987 (Final).

By order of the Commission.
Issued: January 13, 2003.
Marilyn R. Abbott,
Secretary of the Commission.

[FR Doc. 03-946 Filed 1-15-03; 8:45 am]

BILLING CODE 7020-02-M